DEPARTMENT OF ENERGY

Federal Energy Regulatory Commission

Combined Notice of Filings #1

Take notice that the Commission received the following electric corporate filings:

Docket Numbers: EC19-27-000.

Applicants: IIF US Holding LP, IIF US Holding 2 LP.

Description: Application for Authorization Under Section 203 of the Federal Power Act, et al. of IIF US Holding LP, et al.

Filed Date: 11/16/18.

Accession Number: 20181116-5234.

Comments Due: 5 p.m. ET 12/7/18.

Take notice that the Commission received the following exempt wholesale generator filings:

Docket Numbers: EG19-23-000.

Applicants: Antelope DSR 3, LLC.

Description: Notice of Self-Certification of EWG Status of Antelope DSR 3, LLC.

Filed Date: 11/19/18.

Accession Number: 20181119-5112.

Comments Due: 5 p.m. ET 12/10/18.

Docket Numbers: EG19-24-000.

Applicants: San Pablo Raceway, LLC.

Description: Notice of Self-Certification of EWG Status of San Pablo Raceway, LLC.

Filed Date: 11/19/18.

Accession Number: 20181119-5113.

Comments Due: 5 p.m. ET 12/10/18.

Take notice that the Commission received the following electric rate filings:

Docket Numbers: ER10-2630-002; ER16-1914-002.

Applicants: NGP Blue Mountain I LLC, Patua Acquisition Company, LLC.

Description: Supplement to September 27, 2018 Notice of Non-Material Change in Status of NGP Blue Mountain I LLC, et al.

Filed Date: 11/16/18.

Accession Number: 20181116-5239.

Comments Due: 5 p.m. ET 12/7/18.

Docket Numbers: ER10-2738-006.

Applicants: The Empire District Electric Company.

Description: Supplement to June 29, 2018 Updated Market Power Analysis of The Empire District Electric Company.

Filed Date: 11/16/18.

Accession Number: 20181116-5264.

Comments Due: 5 p.m. ET 12/7/18.

Docket Numbers: ER19-360-000.

Applicants: American Transmission Company LLC.

Description: Application for Authorization for Abandoned Plant Incentive Rate Treatment of American Transmission Company LLC.

Filed Date: 11/16/18.

Accession Number: 20181116-5232.

Comments Due: 5 p.m. ET 12/7/18.

Docket Numbers: ER19-361-000.

Applicants: Midcontinent Independent System Operator, Inc., International Transmission Company, Michigan Electric Transmission Company, LLC, ITC Midwest LLC.

Description: Compliance filing: 2018-11-19_Attachment O Compliance for ITC Companies re Transco Adder (EL18-140) to be effective 4/20/2018.

Filed Date: 11/19/18.

Accession Number: 20181119-5051.

Comments Due: 5 p.m. ET 12/10/18.

Docket Numbers: ER19-362-000.

Applicants: Midcontinent Independent System Operator, Inc., ALLETE, Inc.

Description: § 205(d) Rate Filing: 2018-11-19_SA 3211 MP-GRE IA (Birch Lake) to be effective 11/20/2018.

Filed Date: 11/19/18.

Accession Number: 20181119-5076.

Comments Due: 5 p.m. ET 12/10/18.

Docket Numbers: ER19-363-000.

Applicants: Midcontinent Independent System Operator, Inc., ALLETE, Inc.

Description: § 205(d) Rate Filing: 2018-11-19_SA 3212 MP-GRE ICA (Bergen Lake) to be effective 11/20/2018.

Filed Date: 11/19/18.

Accession Number: 20181119-5078.

Comments Due: 5 p.m. ET 12/10/18.

Docket Numbers: ER19-364-000.

Applicants: Alabama Power Company.

Description: § 205(d) Rate Filing: Happy Hollow Solar Center LGIA Filing to be effective 11/5/2018.

Filed Date: 11/19/18.

Accession Number: 20181119-5116.

Comments Due: 5 p.m. ET 12/10/18.

Docket Numbers: ER19-365-000.

Applicants: Public Service Company of Colorado.

Description: § 205(d) Rate Filing: PSCo-WAPA-TSGT Inter-Entitle-O&M-367-Exh O-0.1.0 to be effective 11/20/2018.

Filed Date: 11/19/18.

Accession Number: 20181119-5124.

Comments Due: 5 p.m. ET 12/10/18.

Docket Numbers: ER19-366-000.

Applicants: Public Service Company of Colorado.

Description: § 205(d) Rate Filing: 2018-11-19 Att N-LGIP—Xcel Queue Reform to be effective 2/1/2019.

Filed Date: 11/19/18.

Accession Number: 20181119-5152.

Comments Due: 5 p.m. ET 12/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2018.
Nathaniel J. Davis, Sr.,
Deputy Secretary.

[FR Doc. 2018-25756 Filed 11-26-18; 8:45 am]

BILLING CODE 6717-01-P